DEPARTMENT OF THE TREASURY

Internal Revenue Service

26 CFR Part 54

[TD 9457]

RIN 1545-BG71

Employer Comparable Contributions to Health Savings Accounts Under Section 4980G, and Requirement of Return for Filing of the Excise Tax Under Section 4980B, 4980D, 4980E or 4980G; Correction

AGENCY: Internal Revenue Service (IRS), Treasury.

ACTION: Correction to final regulations.

SUMMARY: This document contains corrections to final regulations that were published in the Federal Register on Tuesday, September 8, 2009, providing guidance on employer comparable contributions to Health Savings Accounts under the Internal Revenue Code (Code) as amended by the Tax Relief and Health Care Act of 2006. The final regulations also provide guidance relating to the manner and method of reporting and paying excise tax.

FOR FURTHER INFORMATION CONTACT: Mireille Khoury, (202) 622-6080 (not a toll free number).

SUPPLEMENTARY INFORMATION:

Background

The final regulations (TD 9457) that are the subject of these corrections are under section 4980 of the Internal Revenue Code. This document contains corrections to final regulations (TD 9457) that were published in the Federal Register on Tuesday, September 8, 2009 (74 FR 45994) providing guidance on employer comparable contributions to Health Savings Accounts under section 4980G of the Internal Revenue Code (Code) as amended by sections 302, 305, and 306 of the Tax Relief and Health Care Act of 2006. The final regulations also provide guidance relating to the manner and method of reporting and paying excise tax under sections 4980B, 4980D, 4980E and 4980G of the Code.

Need for Correction

As published, the final regulations (TD 9457) contain errors that may prove to be misleading and are in need of clarification.

Correction of Publication

Accordingly, the final regulations (TD 9457), that are the subject of FR Doc. E9-21225, are corrected as follows:

On page 46000, column 3, in the signature block, line 6, the language “Assistant Secretary of the Treasury (Tax” is corrected to read “Acting Assistant Secretary of the Treasury (Tax”.

LaNita VanDyke,
Chief, Publications and Regulations Branch, Legal Processing Division, Associate Chief Counsel, Procedure and Administration.

[FR Doc. E9-24004 Filed 10-5-09; 8:45 am]

BILLING CODE 4830-01-P